FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington DC 20551-0001, not later than October 9, 2024.

A. Federal Reserve Bank of Cleveland (Nadine M. Wallman, Vice President) 1455 East Sixth Street Cleveland, Ohio 44101-2566. Comments can also be sent electronically to Comments.applications@clev.frb.org:

1. Larry T. Clark, Danville, Kentucky, as Successor Trustee of the John M. St. Clair, Jr. Trust dated January 16, 2006; to retain voting shares of Citizens Guaranty Financial Corporation, Irvine, Kentucky, and thereby indirectly retain voting shares of Citizens Guaranty Bank, Richmond, Kentucky.

B. Federal Reserve Bank of Chicago (Colette A. Fried, Assistant Vice President) 230 South LaSalle Street, Chicago, Illinois 60690-1414. Comments can also be sent electronically to Comments.applications@chi.frb.org:

1. Bradley C. Hanson, Sioux Falls, South Dakota; to acquire voting shares of AgCom Holdings, Inc., and thereby indirectly acquire voting shares of Maxwell State Bank, both of Maxwell, Iowa.

2. Stephen Lange Ranzini Inherited IRA, Stephen Lange Ranzini, trustee, both of Ann Arbor, Michigan; Joseph Lange Ranzini IRA, Joseph Lange Ranzini, trustee, both of Waynesboro, Virginia; Paul Lange Ranzini, Meunster, Germany; David William Ranzini, Tokyo, Japan; Gregory Paul Ranzini, Wilmington, Delaware; Holly Ann Clare, Atlanta, Georgia; Emily Elizabeth Hu, Washington, DC; and Jonathan Paul Hu and Abigail Raffaela Hu, both of Princeton, New Jersey; to join the Ranzini Family Group, a group acting in concert, to retain voting shares of University Bancorp, Inc., and thereby indirectly retain voting shares of University Bank, both of Ann Arbor, Michigan.

Board of Governors of the Federal Reserve System.
Michele Taylor Fennell,
Associate Secretary of the Board.

[FR Doc. 2024-21815 Filed 9-23-24; 8:45 am]

BILLING CODE P